DEPARTMENT OF THE INTERIOR

Bureau of Land Management

[CA 180-1150 JP]

Notice of Emergency Closure of Public Lands in El Dorado County, CA

AGENCY: Bureau of Land Management, Interior.

ACTION: Notice.

SUMMARY: Notice is hereby given that certain access roads and certain areas are temporarily closed to all public uses that could result in igniting a wildfire and/or damaging or destroying Federally-listed threatened or endangered plant species. Prohibited activities include, but are not limited to the operation of motorized vehicles or other internal combustion engines, camping, campfires, smoking and fireworks from March 24, 2004, to March 24, 2005. Non-motorized entry during daylight hours will be allowed.

The closed area is portions of the Cameron Park unit of the Pine Hill Preserve, (T10N, R9E, section 34; and T9N, R9E, sections 2 and 3; Mount Diablo Baseline and Meridian). Entry will be restricted during this emergency closure to protect persons, property, public lands and resources.

Closure signs will be posted at main entry points to this area.

DATES: The closure will be in effect between March 24, 2004, and March 24, 2005.

ADDRESSES: Maps of the closure area may be obtained from the Folsom Field Office, 63 Natoma Street, Folsom, California 95630. Phone: (916) 985-4474.

FOR FURTHER INFORMATION CONTACT: Deane Swickard, Folsom Field Office Manager, 63 Natoma Street, Folsom, California 95630, telephone (916) 985-4474.

SUPPLEMENTARY INFORMATION: Under the authority of 43 CFR 9268.3(d)(1)(1), 43 CFR 8364.1(a) and 43 CFR 8341.2, the Bureau of Land Management will enforce the following rules within the closed area: No operation of motor vehicles or other internal combustion engines, no camping, no smoking, and no ignition of any fire, including campfires or fireworks will be allowed in the closed area. Non-motorized entry during daylight hours will be allowed. Official vehicles, including fire or law enforcement, are exempt from the emergency order.

The authority for this closure is found under section 303(a) of the Federal Land Policy and Management Act of 1976 (43 CFR 8360.0-7). Any person who violates this closure may be tried before a United States Magistrate and fined no more than $1,000 or imprisoned for no more that 12 months, or both. Such violations may also be subject to the enhanced fines provided for by 18 U.S.C. 8571.

The risk to lives and property in the event of wildfire at the Cameron Park Unit of the Pine Hill Preserve is extreme and justifies emergency action. Fuels are mostly old chaparral, with large amounts of standing dead material. Summer temperatures often exceed 100 degrees Fahrenheit, and relative humidities are consistently low during fire season. Two apparently man-caused fires occurred in the Cameron Park Unit of the Preserve during the summer of 2003. Approximately 110 residences ring the perimeter of the Preserve, as well as several businesses and a courthouse. Within 1500 feet of the Preserve are 890 homes, 125 businesses and 40 medical offices. Home values average $550,000.

Four plant species that are listed as threatened or endangered under the Endangered Species Act occur at the Cameron Park Unit of the Pine Hill Preserve. Listed as endangered species are Stebbins' morning glory, (Calystegia stebbinsii); El Dorado bedstraw, (Galium californicum sierrae); and Roderick's ceanothus, (Ceanothus roderickii). Listed as threatened is Layne's butterweed, (Senecio layneae). Although two of these species have been shown to respond favorably to fires under certain conditions, a fire that occurs under the wrong conditions, or repeated fires, may negatively impact those species. The effects of fire on the other two species is not known. To conserve these species, unplanned man-caused ignitions must be prevented. The use of motor vehicles, especially non-street legal off-road vehicles, has damaged and killed plants of these listed species at the Cameron Park Unit.

An interagency management plan is being written for the Pine Hill Preserve that will address the issues addressed in this closure. The closure is an interim measure to address these issues until the plan is completed.

Dated: May 3, 2004.
D.K. Swickard,
Folsom Field Office Manager.

[FR Doc. 04-13321 Filed 6-10-04; 8:45 am]

BILLING CODE 4310-40-P